DEPARTMENT OF THE INTERIOR

Fish and Wildlife Service

Post-delisting Monitoring Plan for Eggert's Sunflower (Helianthus eggertii)

AGENCY: Fish and Wildlife Service, Interior.

ACTION: Notice of document availability.

SUMMARY: We, the Fish and Wildlife Service, announce the availability of the Post-delisting Monitoring Plan for Eggert's sunflower (Helianthus eggertii) (Monitoring Plan). The status of Eggert's sunflower will be monitored over a 5-year period from 2006 through 2010, through annual evaluation of information routinely being collected by seven agencies that have entered into long-term management agreements with us covering 27 populations of Eggert's sunflowers, combined with a total census of these populations during the second and fifth year of the monitoring period.

ADDRESSES: Copies of the Monitoring Plan are available by request from the Field Supervisor, Fish and Wildlife Service, 446 Neal Street, Cookeville, Tennessee 38501 (telephone 931-528-6481; fax: 931-528-7074). This Monitoring Plan is also available on the World Wide Web at http://www.fws.gov/cookeville.

FOR FURTHER INFORMATION CONTACT: Geoff Call, Recovery Coordinator, at the above Cookeville address, at geoff_call@fws.gov, or at 931/528-6481, extension 213.

SUPPLEMENTARY INFORMATION:

Background

Eggert's sunflower is a perennial member of the aster family (Asteraceae) known only from Alabama, Kentucky, and Tennessee. The species is commonly associated with the barrens/woodland ecosystem. It occurs on rolling-to-flat uplands and in full sun or partial shade. It is often found in open fields or in thickets along woodland borders and with other tall herbs and small trees. It persists in, and may even invade, roadsides, power line rights-of-way, or fields that have suitable open habitat.

Eggert's sunflower was listed as threatened under the Endangered Species Act (Act) on May 22, 1997 (62 FR 27973). At the time of listing, there were 34 known Eggert's sunflower sites occurring in 1 site in 1 county in Alabama, 13 sites in 5 counties in Kentucky, and 20 sites in 8 counties in Tennessee. When the Recovery Plan for this species was finalized in 1999, there was 1 known site in Alabama, 27 sites in 6 counties in Kentucky, and 203 sites in 12 counties in Tennessee. Presently, there are 287 known Eggert's sunflower sites distributed across 3 counties in Alabama, 9 counties in Kentucky, and 15 counties in Tennessee.

On August 18, 2005, we published a final rule removing Eggert's sunflower from the Federal List of Endangered and Threatened Wildlife and Plants (70 FR 48482). Our decision to delist this species was based on a review of all available data, which indicated that the species was more widespread and abundant than was documented at the time of listing, was more resilient and less vulnerable to certain activities than previously thought, and is now protected on Federal, State, and county lands.

Section 4(g)(1) of the Act requires that we implement a system, in cooperation with the States, to monitor all species that have been delisted, or removed from the Federal List of Endangered and Threatened Wildlife and Plants, due to recovery for at least 5 years following delisting. The purpose of this post-delisting monitoring is to verify that a species delisted due to recovery remains secure from risk of extinction after it no longer has the protections of the Act. In keeping with that mandate, we developed this Monitoring Plan in cooperation with the States of Alabama, Kentucky, and Tennessee. We are responsible for compliance with section 4(g) and must remain actively engaged in all phases of the post-delisting monitoring.

The Draft Post-delisting Monitoring Plan for Eggert's sunflower was available for public comment from August 18, 2005 through September 19, 2005 (70 FR 48577). The only response we received was from the State of Tennessee, which supported the plan. Since we had no additional information provided to us during the comment period, we have finalized the Post-delisting Monitoring Plan with no changes from the draft.

The Monitoring Plan is designed to track the population status of Eggert's sunflower by using information routinely collected by our partners on a yearly basis as well as a total population census during the second and fifth years of the monitoring period for the 27 populations that occur on public lands. We will also annually evaluate the effectiveness of the Cooperative Management Agreements in protecting Eggert's sunflower populations on these public lands.

If we determine at the end of the 5-year post-delisting monitoring period that “recovered” status is still appropriate and factors that led to the listing of Eggert's sunflower, or any new factors, remain sufficiently reduced or eliminated, monitoring may be reduced or terminated. If data show that the species is declining or if one or more factors that have the potential to cause a decline are identified, we will continue monitoring beyond the 5-year period and may modify the Monitoring Plan based on an evaluation of the results of the initial Monitoring Plan, or reinitiate listing if necessary.

Author

The primary author of this proposed rule is Geoff Call (see ADDRESSES section).

Authority

The authority for this action is the Endangered Species Act of 1973 (16 U.S.C. 1531 et seq.).

Dated: December 19, 2006.
Cynthia K. Dohner,
Acting Regional Director, Southeast Region.

[FR Doc. E7-4367 Filed 3-9-07; 8:45 am]

BILLING CODE 4310-55-P